DEPARTMENT OF ENERGY

Federal Energy Regulatory Commission

[Docket Nos. CP10-22-000; PF09-3-000]

Magnum Gas Storage, LLC, Magnum Solutions, LLC; Notice of Application

December 2, 2009.

Take notice that on November 17, 2009, Magnum Gas Storage, LLC (MGS) and Magnum Solutions, LLC (MS), 2150 South 1300 East, Suite 500, Salt Lake City, Utah 84106, filed an application in Docket No. CP10-22-000, pursuant to Section 7(c) of the Natural Gas Act (NGA) as amended and Parts 157 and 284 of the Commission's regulations requesting: (1) A certificate of public convenience and necessity authorizing MGS to construct and operate a high-deliverability, multi-cycle salt cavern natural gas storage facility and connecting header pipeline to be located in Millard, Juab and Utah Counties, Utah; (2) a limited-jurisdiction certificate of public convenience and necessity authorizing MS to construct and operate cavern leaching facilities; (3) a blanket certificate pursuant to Part 284, Subpart G of the Commission's regulations permitting MGS to provide open-access natural gas storage services; (4) blanket certificates pursuant to Part 157 of the Commission's regulations permitting MGS and MS to construct and operate facilities and; (5) authorization for MGS to provide the proposed storage services, including interruptible wheeling services, at market-based rates. Additionally, MGS seeks approval of its pro forma tariff and waiver of certain Commission regulations, all as more fully set forth in the application which is on file with the Commission and open for public inspection.

The proposed project would be capable of injecting up to 0.3 Bcf of gas per day and withdrawing up to 0.5 Bcf per day and will be capable of cycling its inventory from nine to twelve times annually. The underground storage facility would consist of four salt caverns with a combined total working gas storage capacity of 42 Bcf. Surface facilities would occupy a 2,050 acre site and include, among other things, 18,800 hp of compression, gas handling and dehydration facilities, storage tanks, pig launchers and receivers, brine storage ponds, and water supply lines. The project would also include a 61.5 mile-long, 36-inch-diameter header pipeline that would extend to points of interconnection with Kern River Gas Transmission Co. (Kern River) and Questar Pipeline Co. (Questar) near Goshen, Utah.

Any questions concerning this application should be directed to David K. Detton, Managing Director, Magnum Gas Storage, LLC and Magnum Solutions, LLC, 2150 South 1300 East, Suite 500, Salt Lake City, Utah 84106, 801 990-2973 (phone), 801 990-2974 (fax) or via e-mail at dave@westernenergyhub.com.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

On December 22, 2008, the Commission staff granted MGS's request to utilize the Pre-Filing Process and assigned Docket No. PF09-3 to staff activities involved with the MGS project. Now as of the filing the November 17, 2009 application, the Pre-Filing Process for this project has ended. From this time forward, this proceeding will be conducted in Docket No. CP10-22-000, as noted in the caption of this Notice.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: December 23, 2009.

Kimberly D. Bose,
Secretary.

[FR Doc. E9-29277 Filed 12-8-09; 8:45 am]

BILLING CODE 6717-01-P